DEPARTMENT OF TRANSPORTATION

Federal Aviation Administration

14 CFR Part 39

[Docket No. FAA-2010-0458; Directorate Identifier 2010-CE-023-AD]

RIN 2120-AA64

Airworthiness Directives; GROB-WERKE GMBH & CO KG Models G102 ASTIR CS and G102 STANDARD ASTIR III Gliders

AGENCY: Federal Aviation Administration (FAA), Department of Transportation (DOT).

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

During an annual inspection, a water ballast hose connector was found disconnected from the fuselage wall of an Astir CS.

The investigation has shown that the hose-fuselage connection bonding has been degraded over years of service.

This condition, if not corrected, could lead to the following consequences:

—The water contained in the wing tanks could run down into the fuselage and fuselage tail which could cause a displacement of the sailplane centre of gravity and consequently may lead to the loss of the sailplane controllability, or/and

—The loosened hose may jam the flight controls (push rods) and consequently may lead to the loss of the sailplane controllability.

The proposed AD would require actions that are intended to address the unsafe condition described in the MCAI.

DATES: We must receive comments on this proposed AD by June 17, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Greg Davison, Aerospace Engineer, FAA, Small Airplane Directorate, 901 Locust, Room 301, Kansas City, Missouri 64106; telephone: (816) 329-4130; fax: (816) 329-4090.

SUPPLEMENTARY INFORMATION:

Comments Invited

We invite you to send any written relevant data, views, or arguments about this proposed AD. Send your comments to an address listed under the ADDRESSES section. Include “Docket No. FAA-2010-0458; Directorate Identifier 2010-CE-023-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

The European Aviation Safety Agency (EASA), which is the Technical Agent for the Member States of the European Community, has issued EASA AD No.: 2010-0053R1, dated April 14, 2010 (referred to after this as “the MCAI”), to correct an unsafe condition for the specified products. The MCAI states:

During an annual inspection, a water ballast hose connector was found disconnected from the fuselage wall of an Astir CS.

The investigation has shown that the hose-fuselage connection bonding has been degraded over years of service.

This condition, if not corrected, could lead to the following consequences:

—The water contained in the wing tanks could run down into the fuselage and fuselage tail which could cause a displacement of the sailplane centre of gravity and consequently may lead to the loss of the sailplane controllability, or/and

—The loosened hose may jam the flight controls (push rods) and consequently may lead to the loss of the sailplane controllability.

For the reason stated above, the original issue of this AD required the inspection of the waterballast system hose-fuselage connections and the accomplishment of the relevant corrective actions (repair) as necessary.

This AD is revised to clarify the purpose of the insertion of the repetitive inspection in the Aircraft Maintenance Programme and to refer to a more appropriate scheduled maintenance review for the insertion of the repetitive inspection in the Aircraft Maintenance Programme.

You may obtain further information by examining the MCAI in the AD docket.

Relevant Service Information

GROB Aircraft AG has issued Grob Aircraft Service Bulletin No. MSB-GROB-003, dated October 21, 2009. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Differences Between This Proposed AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

We estimate that this proposed AD will affect 113 products of U.S. registry. We also estimate that it would take about 1 work-hour per product to comply with the basic requirements of this proposed AD. The average labor rate is $85 per work-hour.

Based on these figures, we estimate the cost of the proposed AD on U.S. operators to be $9,605, or $85 per product.

In addition, we estimate that any necessary follow-on actions would take about 1 work-hour and require parts costing $5, for a cost of $90 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

GROB-WERKE GMBH & CO KG: Docket No. FAA-2010-0458; Directorate Identifier 2010-CE-023-AD.

Comments Due Date

(a) We must receive comments by June 17, 2010.

Affected ADs

(b) None.

Applicability

(c) This AD applies to Models G102 ASTIR CS and G102 STANDARD ASTIR III gliders, all serial numbers, that are:

(1) Certificated in any category; and

(2) Have water ballast equipment installed (the water ballast equipment could have been included as part of an option).

Subject

(d) Air Transport Association of America (ATA) Code 41: Water Ballast.

Reason

(e) The mandatory continuing airworthiness information (MCAI) states:

During an annual inspection, a water ballast hose connector was found disconnected from the fuselage wall of an Astir CS.

The investigation has shown that the hose-fuselage connection bonding has been degraded over years of service.

This condition, if not corrected, could lead to the following consequences:

—The water contained in the wing tanks could run down into the fuselage and fuselage tail which could cause a displacement of the sailplane centre of gravity and consequently may lead to the loss of the sailplane controllability, or/and

—The loosened hose may jam the flight controls (push rods) and consequently may lead to the loss of the sailplane controllability.

For the reason stated above, the original issue of this AD required the inspection of the waterballast system hose-fuselage connections and the accomplishment of the relevant corrective actions (repair) as necessary.

This AD is revised to clarify the purpose of the insertion of the repetitive inspection in the Aircraft Maintenance Programme and to refer to a more appropriate scheduled maintenance review for the insertion of the repetitive inspection in the Aircraft Maintenance Programme.

Actions and Compliance

(f) Unless already done, do the following actions:

(1) Within 30 days after the effective date of this AD and repetitively thereafter at intervals not to exceed 12 months, inspect the bonding between the water ballast system hose connectors and the fuselage wall connectors for correct and tight connection following paragraph 1.8 of Grob Aircraft Service Bulletin No. MSB-GROB-003, dated October 21, 2009.

(2) If, during any inspection required by paragraphs (f)(1) of this AD, any weak bonding is found, before further flight, repair the connection between the water ballast system hose connectors and the fuselage wall connectors following the instructions of paragraph 1.8 of Grob Aircraft Service Bulletin No. MSB-GROB-003, dated October 21, 2009.

(3) After the effective date of this AD, when installing a water ballast system on any affected sailplane, ensure that the water ballast system hose connectors and the fuselage wall connector are properly and tightly bonded.

(4) Within 30 days after the effective date of this AD, insert the following scheduled maintenance task into the FAA-approved aircraft maintenance program: “During each annual inspection and without exceeding a 12-month interval, inspect the bonding between the water ballast system hose connectors and the fuselage wall connectors for correct and tight connection. Repair any incorrect or loose connection.”

FAA AD Differences

Note: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Greg Davison, Aerospace Engineer, FAA, Small Airplane Directorate, 901 Locust, Room 301, Kansas City, Missouri 64106; telephone: (816) 329-4130; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI European Aviation Safety Agency AD No.: 2010-0053R1, dated April 14, 2010; and Grob Aircraft Service Bulletin No. MSB-GROB-003, dated October 21, 2009, for related information.

Issued in Kansas City, Missouri, on April 22, 2010.
James E. Jackson,
Acting Manager, Small Airplane Directorate, Aircraft Certification Service.

[FR Doc. 2010-9954 Filed 4-30-10; 8:45 am]

BILLING CODE 4910-13-P